DEPARTMENT OF ENERGY

Federal Energy Regulatory Commission

Combined Notice of Filings #1

Take notice that the Commission received the following electric corporate filings:

Docket Numbers: EC25-17-000.

Applicants: Hardin Solar Energy III LLC,WEC Infrastructure LLC.

Description: Supplement to 10/31/2024, Joint Application for Authorization Under Section 203 of the Federal Power Act of Hardin Solar Energy III LLC, et al.

Filed Date: 12/16/24.

Accession Number: 20241216-5338.

Comment Date: 5 p.m. ET 12/26/24.

Docket Numbers: EC25-30-000.

Applicants: Northwest Ohio Wind, LLC, Northwest Ohio IA, LLC, F8 Renewables NWO Wind, LLC.

Description: Joint Application for Authorization Under Section 203 of the Federal Power Act of Northwest Ohio Wind, LLC, et al.

Filed Date: 12/16/24.

Accession Number: 20241216-5339.

Comment Date: 5 p.m. ET 1/6/25.

Take notice that the Commission received the following exempt wholesale generator filings:

Docket Numbers: EG25-65-000.

Applicants: Excel Advantage Services, LLC d/b/a Misae Solar Park II.

Description: Excel Advantage Services, LLC d/b/a Misae Solar Park II submits Notice of Self-Certification of Exempt Wholesale Generator Status.

Filed Date: 12/18/24.

Accession Number: 20241218-5159.

Comment Date: 5 p.m. ET 1/8/25.

Take notice that the Commission received the following electric rate filings:

Docket Numbers: ER25-318-001.

Applicants: Southwest Power Pool, Inc., Central Power Electric Cooperative, Inc.

Description: Tariff Amendment: Southwest Power Pool, Inc. submits tariff filing per 35.17(b): Deficiency Response—Central Power's Revisions to Formula Rate to be effective 1/1/2025.

Filed Date: 12/18/24.

Accession Number: 20241218-5193.

Comment Date: 5 p.m. ET 1/8/25.

Docket Numbers: ER25-453-001.

Applicants: PJM Interconnection, L.L.C.

Description: Tariff Amendment: Amendment to Notice of Cancellation of ISA, SA No. 6475; Queue No. AE1-079 to be effective 2/16/2025.

Filed Date: 12/18/24.

Accession Number: 20241218-5144.

Comment Date: 5 p.m. ET 1/8/25.

Docket Numbers: ER25-454-001.

Applicants: PJM Interconnection, L.L.C.

Description: Tariff Amendment: Amendment to Notice of Cancellation of ISA, SA No. 6454; Queue No. AE1-237 to be effective 2/16/2025.

Filed Date: 12/18/24.

Accession Number: 20241218-5147.

Comment Date: 5 p.m. ET 1/8/25.

Docket Numbers: ER25-455-001.

Applicants: PJM Interconnection, L.L.C.

Description: Tariff Amendment: Amendment to Notice of Cancellation of ISA, SA No. 6239; Queue No. AE2-343 to be effective 2/16/2025.

Filed Date: 12/18/24.

Accession Number: 20241218-5146.

Comment Date: 5 p.m. ET 1/8/25.

Docket Numbers: ER25-731-000.

Applicants: American Transmission Systems, Incorporated.

Description: 205(d) Rate Filing: ATSI submits Construction Agreement, SA No. 7206 to be effective 2/16/2025.

Filed Date: 12/17/24.

Accession Number: 20241217-5284.

Comment Date: 5 p.m. ET 1/7/25.

Docket Numbers: ER25-739-000.

Applicants: Richland Township Solar, LLC.

Description: 205(d) Rate Filing: Richland Township Solar, LLC Shared Facilities Agreement to be effective 1/14/2025.

Filed Date: 12/18/24.

Accession Number: 20241218-5000.

Comment Date: 5 p.m. ET 1/8/25.

Docket Numbers: ER25-740-000.

Applicants: PJM Interconnection, L.L.C.

Description: Tariff Amendment: Notice of Cancellation of ISA, SA No. 5813; Queue No. AD2-072 to be effective 2/17/2025.

Filed Date: 12/18/24.

Accession Number: 20241218-5061.

Comment Date: 5 p.m. ET 1/8/25.

Docket Numbers: ER25-741-000.

Applicants: Ratts 1 Solar LLC.

Description: 205(d) Rate Filing: Ratts 1 Solar LLC MBR Tariff to be effective 2/17/2025.

Filed Date: 12/18/24.

Accession Number: 20241218-5062.

Comment Date: 5 p.m. ET 1/8/25.

Docket Numbers: ER25-742-000.

Applicants: Ratts 1 Phase 2 Solar, LLC.

Description: 205(d) Rate Filing: Ratts 1 Phase 2 Solar, LLC MBR Tariff to be effective 2/17/2025.

Filed Date: 12/18/24.

Accession Number: 20241218-5063.

Comment Date: 5 p.m. ET 1/8/25.

Docket Numbers: ER25-743-000.

Applicants: Union Electric Company.

Description: 205(d) Rate Filing: 2024-12-18_SA 4248 Ameren Missouri-Ameren Missouri 1st Rev E&P (Castle Bluff) to be effective 12/19/2024.

Filed Date: 12/18/24.

Accession Number: 20241218-5076.

Comment Date: 5 p.m. ET 1/8/25.

Docket Numbers: ER25-744-000.

Applicants: American Electric Power Service Corporation.

Description: 205(d) Rate Filing: AEP submits one FA re: SA No. 5677 to be effective 3/1/2025.

Filed Date: 12/18/24.

Accession Number: 20241218-5090.

Comment Date: 5 p.m. ET 1/8/25.

Docket Numbers: ER25-745-000.

Applicants: Michigan Electric Transmission Company, LLC.

Description: 205(d) Rate Filing: 2024-12-18_SA 4416 METC-DTE Electric E&P (J2876) to be effective 12/13/2024.

Filed Date: 12/18/24.

Accession Number: 20241218-5100.

Comment Date: 5 p.m. ET 1/8/25.

Docket Numbers: ER25-746-000.

Applicants: Southwest Power Pool, Inc.

Description: 205(d) Rate Filing: Revisions to WEIS Tariff to Extend the Notification Period for Price Corrections to be effective 2/17/2025.

Filed Date: 12/18/24.

Accession Number: 20241218-5102.

Comment Date: 5 p.m. ET 1/8/25.

Docket Numbers: ER25-747-000.

Applicants: The Connecticut Light and Power Company.

Description: 205(d) Rate Filing: The Connecticut Light and Power Company; Docket No. ER25- to be effective 2/17/2025.

Filed Date: 12/18/24.

Accession Number: 20241218-5139.

Comment Date: 5 p.m. ET 1/8/25.

Docket Numbers: ER25-748-000.

Applicants: Tri-State Generation and Transmission Association, Inc.

Description: 205(d) Rate Filing: Pre-Existing Transmission Service Related Agreements, RS 397 through RS 401 to be effective 2/18/2025.

Filed Date: 12/18/24.

Accession Number: 20241218-5161.

Comment Date: 5 p.m. ET 1/8/25.

Docket Numbers: ER25-749-000.

Applicants: Tri-State Generation and Transmission Association, Inc.

Description: 205(d) Rate Filing: Pre-Existing Transmission Service Related Agreements, SA 927 and 928 to be effective 2/18/2025.

Filed Date: 12/18/24.

Accession Number: 20241218-5163.

Comment Date: 5 p.m. ET 1/8/25.

Docket Numbers: ER25-750-000.

Applicants: Tri-State Generation and Transmission Association, Inc.

Description: 205(d) Rate Filing: Pre-Existing Transmission Service Related Agreements, Other Agreements to be effective 2/18/2025.

Filed Date: 12/18/24.

Accession Number: 20241218-5164.

Comment Date: 5 p.m. ET 1/8/25.

Docket Numbers: ER25-751-000.

Applicants: AEP Texas Inc.

Description: 205(d) Rate Filing: AEPTX-Starr Solar Ranch 1 Third Amended Generation Interconnection Agreement to be effective 12/2/2024.

Filed Date: 12/18/24.

Accession Number: 20241218-5168.

Comment Date: 5 p.m. ET 1/8/25.

Docket Numbers: ER25-752-000.

Applicants: AEP Texas Inc.

Description: 205(d) Rate Filing: AEPTX-AP Solar 4 (Charger) Third Amended Generation Interconnection Agreement to be effective 12/2/2024.

Filed Date: 12/18/24.

Accession Number: 20241218-5172.

Comment Date: 5 p.m. ET 1/8/25.

Docket Numbers: ER25-753-000.

Applicants: Tri-State Generation and Transmission Association, Inc.

Description: Tariff Amendment: Notice of Cancellation of Rate Schedule FERC No. 398 to be effective 2/18/2025.

Filed Date: 12/18/24.

Accession Number: 20241218-5241.

Comment Date: 5 p.m. ET 1/8/25.

Docket Numbers: ER25-754-000.

Applicants: Tri-State Generation and Transmission Association, Inc.

Description: Tariff Amendment: Notice of Cancellation of Rate Schedule FERC No. 399 to be effective 2/18/2025.

Filed Date: 12/18/24.

Accession Number: 20241218-5245.

Comment Date: 5 p.m. ET 1/8/25.

Docket Numbers: ER25-755-000.

Applicants: Tri-State Generation and Transmission Association, Inc.

Description: Tariff Amendment: Notice of Cancellation of Rate Schedule FERC No. 400 to be effective 2/18/2025.

Filed Date: 12/18/24.

Accession Number: 20241218-5247.

Comment Date: 5 p.m. ET 1/8/25.

Docket Numbers: ER25-756-000.

Applicants: Tri-State Generation and Transmission Association, Inc.

Description: Tariff Amendment: Notice of Cancellation of Rate Schedule FERC No. 401 to be effective 2/18/2025.

Filed Date: 12/18/24.

Accession Number: 20241218-5251.

Comment Date: 5 p.m. ET 1/8/25.

Docket Numbers: ER25-757-000.

Applicants: Tri-State Generation and Transmission Association, Inc.

Description: Tariff Amendment: Pre-Existing Transmission Service Agreements re: Cancellation of TS-15-0074 to be effective 2/18/2025.

Filed Date: 12/18/24.

Accession Number: 20241218-5252.

Comment Date: 5 p.m. ET 1/8/25.

Docket Numbers: ER25-758-000.

Applicants: Pleasant Valley Solar, LLC.

Description: 205(d) Rate Filing: Pleasant Valley Solar MBR Application Filing to be effective 12/19/2024.

Filed Date: 12/18/24.

Accession Number: 20241218-5276.

Comment Date: 5 p.m. ET 1/8/25.

Take notice that the Commission received the following electric securities filings:

Docket Numbers: ES25-18-000; ES25-19-000; ES25-20-000; ES25-21-000; ES25-22-000.

Applicants: Transource Maryland, LLC, Transource Missouri, LLC, Transource Oklahoma, LLC, Transource Pennsylvania, LLC, Transource West Virginia, LLC, Transource Maryland, LLC, Transource Missouri, LLC, Transource Oklahoma, LLC, Transource Pennsylvania, LLC, Transource West Virginia, LLC, Transource Maryland, LLC, Transource Missouri, LLC, Transource Oklahoma, LLC, Transource Pennsylvania, LLC, Transource West Virginia, LLC, Transource Maryland, LLC, Transource Missouri, LLC, Transource Oklahoma, LLC, Transource Pennsylvania, LLC, Transource West Virginia, LLC, Transource Maryland, LLC, Transource Missouri, LLC, Transource Oklahoma, LLC, Transource Pennsylvania, LLC, Transource West Virginia, LLC.

Description: Application Under Section 204 of the Federal Power Act for Authorization to Issue Securities of Transource Maryland, LLC, et al.

Filed Date: 12/13/24.

Accession Number: 20241213-5295.

Comment Date: 5 p.m. ET 1/3/25.

Docket Numbers: ES25-23-000.

Applicants: NorthWestern Corporation.

Description: Application Under Section 204 of the Federal Power Act for Authorization to Issue Securities of NorthWestern Corporation.

Filed Date: 12/13/24.

Accession Number: 20241213-5298.

Comment Date: 5 p.m. ET 1/3/25.

Docket Numbers: ES25-24-000.

Applicants: Midcontinent Independent System Operator, Inc.

Description: Application Under Section 204 of the Federal Power Act for Authorization to Issue Securities of Midcontinent Independent System Operator, Inc.

Filed Date: 12/17/24.

Accession Number: 20241217-5296.

Comment Date: 5 p.m. ET 1/7/25.

Docket Numbers: ES25-25-000.

Applicants: RE Papago PV LLC.

Description: Application Under Section 204 of the Federal Power Act for Authorization to Issue Securities of RE Papago PV LLC.

Filed Date: 12/17/24.

Accession Number: 20241217-5298.

Comment Date: 5 p.m. ET 1/7/25.

Take notice that the Commission received the following public utility holding company filings:

Docket Numbers: PH25-1-000.

Applicants: The Williams Companies, Inc.

Description: The Williams Companies, Inc. submits FERC 65-B Notice of Change in Fact to Waiver Notification.

Filed Date: 12/13/24.

Accession Number: 20241213-5297.

Comment Date: 5 p.m. ET 1/3/25.

Take notice that the Commission received the following electric reliability filings

Docket Numbers: RD25-4-000.

Applicants: North American Electric Reliability Corporation.

Description: Petition of The North American Electric Reliability Corporation for Approval of Proposed Reliability Standard TPL-008-1.

Filed Date: 12/17/24.

Accession Number: 20241217-5303.

Comment Date: 5 p.m. ET 1/17/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 18, 2024.
Carlos D. Clay,
Acting Deputy Secretary.

[FR Doc. 2024-30701 Filed 12-23-24; 8:45 am]

BILLING CODE 6717-01-P